DEPARTMENT OF ENERGY

Federal Energy Regulatory Commission

Notice of Staff Attendance at Southwest Power Pool Regional Entity Trustee, Regional State Committee, Members' and Board of Directors' Meetings

The Federal Energy Regulatory Commission (Commission) hereby gives notice that Commissioners and members of its staff may attend the meetings of the Southwest Power Pool, Inc. (SPP) Regional Entity Trustee (RE), Regional State Committee (RSC), SPP Members Committee and Board of Directors, as noted below. Their attendance is part of the Commission's ongoing outreach efforts.

All meetings will be held at the El Dorado Hotel, 309 West San Francisco St., Santa Fe, NM 87501. The phone number is (505) 988-4455.

SPP RE

April 25, 2016 (8:00 a.m.-3:00 p.m.)

SPP RSC

April 25, 2016 (1:00 p.m.-5:00 p.m.)

SPP Members/Board of Directors

April 26, 2016 (8:00 a.m.-3:00 p.m.)

The discussions may address matters at issue in the following proceedings:

Docket No. ER11-1844, Midcontinent Independent System Operator, Inc.

Docket No. EL12-60, Southwest Power Pool, Inc., et al.

Docket No. ER12-1179, Southwest Power Pool, Inc.

Docket No. ER12-1586, Southwest Power Pool, Inc.

Docket No. ER13-1937, Southwest Power Pool, Inc.

Docket No. ER13-1939, Southwest Power Pool, Inc.

Docket No. EL15-66, Southern Company Services, et al. v. Midcontinent Independent System Operator, Inc.

Docket No. EL15-77, Morgan Stanley Capital Group Inc. v. Midcontinent Independent System Operator, Inc.

Docket No. ER14-67, Southwest Power Pool, Inc.

Docket No. ER14-2445, Midcontinent Independent System Operator, Inc.

Docket No. ER15-1499, Southwest Power Pool, Inc.

Docket No. ER15-1775, Southwest Power Pool, Inc.

Docket No. ER15-1777, Southwest Power Pool, Inc.

Docket No. ER15-1943, Southwest Power Pool, Inc.

Docket No. ER15-1976, Southwest Power Pool, Inc.

Docket No. ER15-2028, Southwest Power Pool, Inc.

Docket No. ER15-2069, Northwestern Corporation.

Docket No. ER15-2115, Southwest Power Pool, Inc.

Docket No. ER15-2265, Southwest Power Pool, Inc.

Docket No. ER15-2324, Southwest Power Pool, Inc.

Docket No. ER15-2347, Southwest Power Pool, Inc.

Docket No. ER15-2351, Southwest Power Pool, Inc.

Docket No. ER15-2356, Southwest Power Pool, Inc.

Docket No. EL16-20, Grid Assurance LLC.

Docket No. ER16-13, Southwest Power Pool, Inc.

Docket No. ER16-165, Southwest Power Pool, Inc.

Docket No. ER16-204, Southwest Power Pool, Inc.

Docket No. ER16-209, Southwest Power Pool, Inc.

Docket No. ER16-228, Southwest Power Pool, Inc.

Docket No. ER16-704, Southwest Power Pool, Inc.

Docket No. ER16-791, Southwest Power Pool, Inc.

Docket No. ER16-800, Southwestern Public Service Company.

Docket No. ER16-829, Southwest Power Pool, Inc.

Docket No. ER16-846, Southwest Power Pool, Inc.

Docket No. ER16-862, Southwest Power Pool, Inc.

Docket No. ER16-863, Southwest Power Pool, Inc.

Docket No. ER16-932, Southwest Power Pool, Inc.

Docket No. ER16-1022, Southwest Power Pool, Inc.

Docket No. ER16-1037, Southwest Power Pool, Inc.

Docket No. ER16-1040, Southwest Power Pool, Inc.

Docket No. ER16-1049, Southwest Power Pool, Inc.

Docket No. ER16-1050, Southwest Power Pool, Inc.

Docket No. ER16-1054, Southwest Power Pool, Inc.

Docket No. ER16-1061, Southwest Power Pool, Inc.

Docket No. ER16-1064, Southwest Power Pool, Inc.

Docket No. ER16-1065, Southwest Power Pool, Inc.

Docket No. ER16-1077, Southwest Power Pool, Inc.

Docket No. ER16-1086, Southwest Power Pool, Inc.

Docket No. ER16-1092, Southwest Power Pool, Inc.

Docket No. ER16-1096, Southwest Power Pool, Inc.

Docket No. ER16-1201, Southwest Power Pool, Inc.

Docket No. ER16-1211, Midcontinent Independent System Operator, Inc.

Docket No. ER16-1259, Southwest Power Pool, Inc.

Docket No. ER16-1260, Southwest Power Pool, Inc.

Docket No. ER16-1261, Southwest Power Pool, Inc.

Docket No. ER16-1262, Midcontinent Independent System Operator, Inc.

Docket No. ER16-1268, Southwest Power Pool, Inc.

Docket No. ER16-1282, Southwest Power Pool, Inc.

Docket No. ER16-1284, Southwest Power Pool, Inc.

Docket No. ER16-1285, Southwest Power Pool, Inc.

Docket No. ER16-1286, Southwest Power Pool, Inc.

Docket No. ER16-1288, Southwest Power Pool, Inc.

Docket No. ER16-1294, Southwest Power Pool, Inc.

Docket No. ER16-1305, Southwest Power Pool, Inc.

Docket No. ER16-1351, Westar Energy, Inc.

Docket No. ER16-1355, Westar Energy, Inc.

Docket No. ER16-1312, Southwest Power Pool, Inc.

Docket No. ER16-1314, Southwest Power Pool, Inc.

Docket No. ER16-1318, Westar Energy, Inc.

Docket No. ER16-1331, Southwest Power Pool, Inc.

Docket No. ER16-1341, Southwest Power Pool, Inc.

Docket No. ER16-1350, Southwest Power Pool, Inc.

These meetings are open to the public.

For more information, contact Patrick Clarey, Office of Energy Market Regulation, Federal Energy Regulatory Commission at (317) 249-5937 or patrick.clarey@ferc.gov.

Dated: April 8, 2016.
Nathaniel J. Davis, Sr.,
Deputy Secretary.

[FR Doc. 2016-08604 Filed 4-13-16; 8:45 am]

BILLING CODE 6717-01-P